FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011305-010.

Title: United Alliance Agreement.

Parties: Hanjin Shipping Co., Ltd., Senator Lines GmbH, United Arab Shipping Co.

Synopsis: The proposed agreement modification revises United Arab Shipping's participation and space allocations under the agreement.

Agreement No.: 011657-005.

Title: Zim/Italia-Space Charter Agreement.

Parties: Italia Di Navigazione, S.p.A., Zim Israel Navigation Co., Ltd.

Synopsis: The proposed modification changes the geographic scope of the agreement by eliminating application to service between U.S. East Coast ports and ports in Colombia, France, Greece, Italy and Spain.

Agreement No.: 011767.

Title: Zim/Italia U.S. East Coast Vessel Sharing Agreement.

Parties: Italia Di Navigazione, S.p.A., Zim Israel Navigation Co., Ltd.

Synopsis: The proposed agreement establishes a vessel-sharing arrangement between the parties in the trade between U.S. East Coast ports and ports in France, Greece, Italy and Spain.

Agreement No.: 011768.

Title: Interocean Lines/Auto Marine Space Charter Agreement.

Parties: Interocean Lines, Auto Marine Line.

Synopsis: The proposed agreement establishes a vessel-sharing agreement in the trade between Atlantic Coast ports of Florida and ports in the Dominican Republic.

Dated: June 8, 2001.
By Order of the Federal Maritime Commission.
Bryant L. VanBrakle,
Secretary.

[FR Doc. 01-14917 Filed 6-12-01; 8:45 am]

BILLING CODE 6730-01-P